DEPARTMENT OF ENERGY

Federal Energy Regulatory Commission

[Project No., 14647-000]

OHP Energy, LLC; Notice of Preliminary Permit Application Accepted for Filing and Soliciting Comments, Motions To Intervene, and Competing Applications

On November 18, 2014, OHP Energy, LLC filed an application for a preliminary permit, pursuant to section 4(f) of the Federal Power Act (FPA), proposing to study the feasibility of the Applegate River Dam Hydroelectric Project (Applegate Project or project) to be located on the Applegate River, near Medford in Jackson County, Oregon. The sole purpose of a preliminary permit, if issued, is to grant the permit holder priority to file a license application during the permit term. A preliminary permit does not authorize the permit holder to perform any land-disturbing activities or otherwise enter upon lands or waters owned by others without the owners' express permission. The project would occupy 15.8 acres of U.S. Bureau of Land Management, 14.6 acres of U.S. Army Corps of Engineers (Corps), and 26.3 acres of U.S. Forest Service's lands.

The proposed project would utilize head from the existing Applegate dam, reservoir, and a low level intake pipe owned and operated by the Corps, and consist of the following new facilities: (1) A multi-level withdrawal structure to withdraw water from the reservoir at centerline elevations of 1,933, 1,955 and 1,967 feet mean sea level; (2) two 750-foot-long steel penstocks with diameters of 66-inches and 84-inches coupled with turbine shut-off valves at the intersection with the powerhouse and a bypass to the tailrace; (3) a 55- by 55-foot powerhouse containing two vertical Francis turbine units rated for a total of capacity of 10 megawatts; (4) two 20-foot-long integral steel draft tubes located within the powerhouse; (5) a 40-foot-long, 40-foot-wide open channel concrete tailrace; (6) an underground 15-mile-long, 35-kilovolt transmission line; (7) a substation; and (8) appurtenant facilities.

The estimated annual generation of the Applegate Project would be 28 gigawatt-hours.

Applicant Contact: Rett Hubbard, Oregon Hydro Power Services, LLC, 285 Oregon Ave., Suite 7, Creswell, OR 97426; phone: (541) 632-4706.

FERC Contact: Julia Kolberg; phone: (202) 502-8261.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineVSupport@ferc.gov, (866) 208-3676 (toll free), or (202) 502-8659 (TTY). In lieu of electronic filing, please send a paper copy to: Secretary, Federal Energy Regulatory Commission, 888 First Street NE., Washington, DC 20426. The first page of any filing should include docket number P-14647-000.

More information about this project, including a copy of the application, can be viewed or printed on the “eLibrary” link of Commission's Web site at http://www.ferc.gov/docs-filing/elibrary.asp. Enter the docket number (P-14647) in the docket number field to access the document. For assistance, contact FERC Online Support.

Dated: January 7, 2015.
Kimberly D. Bose,
Secretary.

[FR Doc. 2015-00312 Filed 1-12-15; 8:45 am]

BILLING CODE 6717-01-P